DEPARTMENT OF THE INTERIOR

National Park Service

National Register of Historic Places; Notification of Pending Nominations

Nominations for the following properties being considered for listing in the National Register were received by the National Park Service before December 22, 2001. Pursuant to section 60.13 of 36 CFR part 60 written comments concerning the significance of these properties under the National Register criteria for evaluation may be forwarded to the National Register, National Park Service,1849 C St. NW., NC400, Washington, DC 20240. Written comments should be submitted by January 28, 2002.

Erika Martin Seibert,
Acting, Keeper of the National Register.

Arkansas

Clark County

Arkadelphia Boy Scout Hut, 8th St.,Arkadelphia, 01001526

Hot Spring County

Rockport Cemetery,US 270,Rockport, 01001527

Perry County

Hawks Schoolhouse, Co. Rd. 7,Ava, 01001528

Connecticut

New London County

Slater Library and Fanning Annex,26 Main St.,Griswold, 01001529

Tolland County

Captain Nathan Hale Monument,120 Lake St.,Coventry, 01001531

Florida

Hillsborough County

SS AMERICAN VICTORY (Victory ship), 705 Channelside Dr, Berth 271,Tampa, 01001533

Miami-Dade County

Bricknell Point Site,401 Brickell Ave,Miami, 01001534

Nassau County

American Beach Historic District,Roughly bounded by Gregg, Lewis, Leonard, Main and James Sts., and Ocean Blvd.,American Beach, 01001532

GEORGIA

Decatur County

First African Missionary Baptist Church,515 Webster St.,Bainbridge, 01001535

Meriwether County

Lone Oak Academy,4945 Lone Oak Rd.,Lone Oak, 01001536

Manchester Community Building,105 E 2nd Ave.,Manchester, 01001537

ILLINOIS

Cook County

Crane Company Building,836 S Michigan Ave.,Chicago, 01001538

IOWA

Clayton County

Lakeside Ballroom,1202 N. 4th St.,Guttenberg, 01001539

Des Moines County

Chicago, Burlington and Quincy Station,300 S Main St.,Burlington, 01001540

Dubuque County

Dubuque YMCA Building,125 W 9th St.,Dubuque, 01001541

Fremont County

Rector, Jason and Elizabeth Baylor, House,2174 Bluff Rd.,Thurman, 01001542

KANSAS

Atchison County

Earhart, Amelia, Historic District,115-125,200-227,302-315,318,324 2nd St, 203-305 North Ter, 124,200,300 3rd St, and 205,112 and 224 Santa Fe St.,Atchison, 01001543

Cowley County

St. John's Lutheran College Girls Dormitory,6th Ave and Gary St.,Winfield, 01001544

NEVADA

Churchill County

Churchill County Jail,10 W Williams Ave.,Fallon, 01001546

Hazen Store,00 Reno Highway,Hazen, 01001547

SOUTH CAROLINA

Aiken County

Zubly Cemetery,Forrest Dr.,Beech Island, 01001548

Dillon County

Dillon Downtown Historic District,Roughly bounded by E and W Main St, N and S Railroad Ave, N MacArthur Ave, and E Harrison St.,Dillon, 01001549

Florence County

Gregg—Wallace Farm Tenant House,310 Price Rd.,Mars Bluff, 01001550

Lake City Downtown Historic District,

Main St and Acline Ave.,Lake City, 01001551

TENNESSEE

Davidson County

East Nashville High and Junior High Schools,110, 112 Gallatin Rd.,Nashville, 01001552

WISCONSIN

Dane County

Wisconsin Heights Battlefield,.4 mi SE of Jcto of Co. Rd. Y and WI 78.,Sauk City, 01001553

[FR Doc. 02-730 Filed 1-10-02; 8:45 am]

BILLING CODE 4310-70-P